ENVIRONMENTAL PROTECTION AGENCY

40 CFR Part 52

[EPA-R10-OAR-2011-0767, FRL-9494-9]

Approval and Promulgation of Implementation Plans; Oregon: New Source Review/Prevention of Significant Deterioration Rule Revisions and Air Quality Permit Streamlining Rule Revisions

AGENCY: Environmental Protection Agency (EPA).

ACTION: Final rule.

SUMMARY: EPA is taking final action to approve the amendments to the Oregon State Implementation Plan (SIP) that were proposed on September 23, 2011. No comments were received on the proposal and today EPA is taking final action to approve the proposed SIP amendments without change. EPA is approving the SIP submission provided by the State of Oregon for the purpose of addressing the third element of the interstate transport provisions of Clean Air Act (CAA or the Act) for the 1997 8-hour ozone National Ambient Air Quality Standards (NAAQS or standards) and the 1997 and 2006 fine particulate matter (PM2.5) NAAQS. The third element of the CAA requires that a state not interfere with any other state's required measures to prevent significant deterioration (PSD) of its air quality. EPA is also approving numerous revisions to the Oregon SIP that were submitted to EPA by the State of Oregon on October 8, 2008; October 10, 2008; March 17, 2009; June 23, 2010; December 22, 2010 and May 5, 2011. The revisions include updating Oregon's new source review (NSR) rules to be consistent with current Federal regulations, adding greenhouse gases (GHGs) to the list of pollutants whose emissions are subject to control under the State's NSR permitting process; and streamlining Oregon's air quality rules by clarifying requirements, removing duplicative rules, and correcting errors. The Federal Implementation Plan (FIP) that EPA promulgated on December 9, 2010, providing for federal implementation of PSD permitting for GHGs is also withdrawn as part of this action because it is being replaced through the approval of the State's regulations providing authority for PSD permitting of GHG emissions. The revisions were submitted in accordance with the requirements of section 110 and part D of the Act. Finally, EPA has identified a technical error in its most recent codification of the Oregon SIP and is making a technical correction to reinstate text that had been unintentionally omitted from that section.

DATES: This action is effective on January 26, 2012.

ADDRESSES: EPA has established a docket for this action under Docket Identification No. EPA-R10-OAR-2011-0767. All documents in the docket are listed on the http://www.regulations.gov Web site. Although listed in the index, some information may not be publicly available, i.e., Confidential Business Information or other information whose disclosure is restricted by statute. Certain other material, such as copyrighted material, is not placed on the Internet and will be publicly available only in hard copy form. Publicly available docket materials are available either electronically through http://www.regulations.gov or in hard copy at EPA Region 10, Office of Air, Waste, and Toxics, AWT-107, 1200 Sixth Avenue, Seattle, Washington 98101. EPA requests that you contact the person listed in the FOR FURTHER INFORMATION CONTACT section to schedule your inspection. The Regional Office's official hours of business are Monday through Friday, 8:30 to 4:30, excluding Federal holidays.

FOR FURTHER INFORMATION CONTACT: Scott Hedges at telephone number: (206) 553-0296, email address: hedges.scott@epa.gov, or the above EPA, Region 10 address.

SUPPLEMENTARY INFORMATION: Throughout this document, wherever “we,” “us,” or “our” is used, we mean the EPA. Information is organized as follows:

Table of Contents

I. Background

A. Third PSD Element of Oregon's Interstate Transport SIP for the 1997 Ozone and 1997 and 2006 p.m.2.5 NAAQS

B. Oregon's NSR/PSD Permitting Program

C. Agricultural Operations (as specified in Oregon Revised Statute 468A.020)

D. Permitting Rule Corrections, Clarifications and Streamlining

II. Final Action

A. Rules to Approve into SIP

B. Rules on which No Action is Taken

III. Statutory and Executive Order Reviews

I. Background

Title I of the CAA, as amended by Congress in 1990, specifies the general requirements for states to submit State Implementation Plans (SIPs) to attain and/or maintain the NAAQS and EPA's actions regarding approval of those SIPs. On October 8, 2008, October 10, 2008, March 17, 2009, June 23, 2010, December 22, 2010 and May 5, 2011, the Oregon Department of Environmental Quality (ODEQ) submitted numerous revisions to the SIP for the State of Oregon. On September 23, 2011 (76 FR 59090), EPA solicited public comment on a proposal to approve specified portions of the State's submissions. See 76 FR 59090. No public comments were received on the proposal and we are now taking final action to approve the SIP revisions as described in the September 23, 2011, proposal.

A. Third PSD Element of Oregon's Interstate Transport SIP for the 1997 Ozone and 1997 and 2006 PM2.5 NAAQS

On July 18, 1997, EPA promulgated the 1997 8-hour ozone ¹ NAAQS and the 1997 PM2.5 NAAQS ². Additionally on December 18, 2006, EPA revised the 1997 24-hour PM2.5 standard.³ Today's actions relate to these revised standards (the 1997 8-hour ozone NAAQS and the 1997 and 2006 PM2.5 NAAQS).

¹ See 62 FR 38856. The level of the 1997 8-hour ozone NAAQS is 0.08 parts per million (ppm). 40 CFR part 50.10. The 8-hour ozone standard is met when the 3-year average of the annual 4th highest daily maximum 8-hour ozone concentrations is 0.08 ppm or less (i.e., less than 0.085 ppm based on the rounding convention in 40 CFR part 50, appendix I). This 3-year average is referred to as the “design value.”

² See 62 FR 38652. The level of the 1997 PM2.5 NAAQS are 15.0 µg/m³ (annual arithmetic mean concentration) and 65 µg/m³ (24-hour average concentration). 40 CFR part 50.7. The annual standard is met when the 3-year average of the annual mean concentrations is 15.0 µg/m³ or less (i.e., less than 15.05 µg/m³ based on the rounding convention in 40 CFR part 50, appendix N section 4.3). The 24-hour standard is met when the 3-year average annual 98th percentile of 24-hour concentrations is 65 µg/m³ or less (i.e., less than 65.5 µg/m³ based on the rounding convention in 40 CFR part 40 appendix N section 4.3). Id. These 3-year averages are referred to as the annual PM2.5 and 24-hour PM2.5 “design values,” respectively.

³ See 71 FR 61144 . In 2006, the 24-hour PM2.5 NAAQS standard was changed from 65 µg/m³ to 35 µg/m³ (24-hour average concentration). The annual PM2.5 standard was not changed. 40 CFR 50.13.

The interstate transport SIP provisions in section 110(a)(2)(D)(i) (also called “good neighbor” provisions) require each state to submit a SIP that contains provisions that prohibit emissions that adversely affect another state in the ways contemplated in the statute. Section 110(a)(2)(D)(i) identifies four distinct elements related to the evaluation of impacts of interstate transport of air pollutants. In this rulemaking EPA is approving Oregon's SIP with respect to the third element of that section. The third element of section 110(a)(2)(D)(i) requires a SIP to contain adequate provisions prohibiting emissions that interfere with any other state's required measures to prevent significant deterioration of its air quality.

As a part of its SIP submittal addressing interstate transport, ODEQ submitted an analysis entitled “Oregon SIP Infrastructure for Addressing the Interstate Transport of Ozone and Fine Particulate Matter”, dated November 5, 2009, to EPA on December 22, 2010.⁴ EPA finds that ODEQ's submission, when evaluated in conjunction with the NSR/PSD rule revisions that EPA is also approving in today's action, meets the requirements under the CAA necessary to avoid interference with another state's SIP measures for preventing significant deterioration of air quality. We are, therefore, approving Oregon's SIP submission for purposes of meeting the requirements of CAA section 110(a)(2)(D)(i) that addresses the third PSD element of the interstate transport provisions for the 1997 8-hour ozone NAAQS and the 1997 and 2006 PM2.5 NAAQS.

⁴ This interstate transport report was inadvertently left out of the original June 23, 2010, SIP submittal.

B. Oregon's NSR/PSD Rule Revisions

On December 31, 2002, EPA published final rule changes to the PSD and nonattainment NSR programs (67 FR 80186) and on November 7, 2003, EPA published a notice of final action on the reconsideration of the December 31, 2002 final rule changes (68 FR 63021). The December 31, 2002 and the November 7, 2003, final actions, are collectively referred to as the “2002 NSR Reform Rules.”

The 2002 NSR Reform Rules require that state agencies adopt and submit revisions to their SIP permitting programs implementing the minimum program elements of the 2002 NSR Reform Rules no later than January 2, 2006. To meet this requirement, ODEQ submitted an NSR reform equivalency demonstration report on December 22, 2005.

For the reasons discussed in EPA's proposed action, EPA has determined that Oregon's PSD program for reviewing and controlling emissions from new and modified sources is at least as strict as EPA's program. We have reviewed Oregon's NSR/PSD program and ODEQ's recent rule revisions and have determined that the NSR/PSD program meets the current requirements in 40 CFR 51.165 and 51.166. Accordingly, EPA is taking final action to approve these measures into the federally approved SIP.

On May 5, 2011, ODEQ submitted a series of additional rule changes as revisions to the Oregon SIP. These rule changes are necessary to align its rules with significant changes made to EPA's air quality permitting regulations, including the 2002 NSR Reform Rules (published on December 31, 2002, effective date March 3, 2003), and the permitting of PM2.5 (direct PM2.5 and PM2.5 precursors) and GHG emissions. The SIP submittal covers revisions to OAR chapter 340, divisions 200, 202, 216, 224, 225, and 228.

The rule revisions include the adoption of a threshold or significant emission rate of 10 tons per year of PM2.5 as a significant change at an existing facility. Facilities would trigger NSR/PSD permitting only if a physical or operational change increased emissions above this threshold. The rule revisions also include the adoption of levels to determine if additional ambient air quality analysis is required, track the cumulative impact of emissions growth in areas that meet air quality standards, and determine if preconstruction monitoring is required for PM2.5.

In addition, the May 5, 2011, SIP submittal includes rules to allow the permitting of GHG emissions under Oregon's NSR/PSD program. Oregon's definition of “federal major source” is almost identical to EPA's definition of “major stationary source” and as such, Oregon has tailored its PSD rules in a manner identical to EPA's with respect to major sources of GHG emissions. That is, for a “federal major source” to be “major” for GHGs under the Oregon PSD program, it must have the potential to emit GHGs equal to or greater than 100,000 tons per year on a carbon dioxide equivalent (CO2e) basis and a potential to emit GHGs equal to or greater than 100/250 tons per year on a mass basis.⁵ However, Oregon's definition of “major modification” is substantially different than (but equivalent to) EPA's definition of “major modification” so Oregon has tailored its PSD rule in a different manner in order to produce the same outcome with respect to major modifications for GHGs as EPA's Tailoring Rule.

⁵ Carbon dioxide equivalent or CO2e is a unit of measurement that allows the effect of different GHGs to be compared using carbon dioxide as a standard unit for reference.

In order for Oregon's PSEL-based definition to have the same effect as EPA's definition of “major modification” with respect to GHG emissions (i.e., an increase greater than 75,000 tons per year on a CO2e basis and an increase greater than “zero” on a mass basis), Oregon's rule requires the establishment of PSELs on a CO2e basis and an increase in the PSEL of more than 75,000 tons per year on a CO2e basis, before a “major modification” under the Oregon rules will have occurred.⁶ This approach is consistent with how the Oregon program defines major modifications for all other NSR regulated pollutants and results in the same outcome as EPA's Tailoring Rule with respect to major modifications for GHG emissions.

⁶ Oregon's rules use the terms “significant emission threshold” or “significant emission rate (SER)” for GHG PSD permitting purposes. However, these terms do not have the same meaning as “significant” as used in the context of EPA's PSD regulation at 40 CFR 51.166. EPA has not established a significant emission rate for GHGs under 40 CFR 51.166(b)(23)(i). Oregon's PSEL PSD permitting program establishes a GHG threshold of 75,000 CO2e to tailor the application of its PSD permitting program in a manner similar to EPA's GHG Tailoring Rule.

EPA finds that these provisions are consistent with EPA's GHG Tailoring Rule and is approving the GHG PSD permitting provisions into the federally approved Oregon SIP, providing Oregon with the authority to issue PSD permits addressing GHG emissions. EPA is simultaneously withdrawing the FIP codified in 40 CFR 52.1987(d) that ensures the availability of a PSD-permitting authority for GHG-emitting sources in Oregon to reflect the fact that analogous provisions are now a part of the federally-approved SIP. EPA has identified a technical error in 40 CFR 52.1987 whereby subsections (a), (b), and (c) were erroneously omitted from the code of federal regulations when EPA promulgated the GHG FIP and added subsection (d).⁷ In this action, EPA is clarifying that subsections (a), (b), and (c) should not have been omitted from the text of the CFR as EPA never provided notice of its intent (and did not intend) to remove those provisions from the SIP.

⁷ See 75 FR 82246, 82254 (December 20, 2010).

C. Agricultural Operations (as Specified in Oregon Revised Statute 468A.020)

The CAA does not provide an exemption for agricultural operations while, prior to 2007, Oregon's State law exempted most agricultural operations from air quality regulations. To address this discrepancy, the 2007 Oregon Legislature (in accordance with Oregon Senate Bill 235) updated Oregon's air quality law (Oregon Revised Statute (ORS) 468.020 and 468A.020) to be consistent with the Federal CAA enabling the regulation of air emissions from agricultural sources if necessary to implement the Federal CAA. The Oregon Environmental Quality Commission in turn adopted rule amendments to OAR (340) 200-0030, (340) 210-0205, and (340) 264-0040 to align these rules with ORS 468A.020 and to make revisions to Oregon's SIP and the Oregon Title V operating permit program. The revisions to OAR (340) 200-0030, (340) 210-0205, and (340) 264-0040 were submitted to EPA by ODEQ on October 8, 2008. OAR rules now allow agricultural air quality pollution sources to be regulated in Oregon as necessary to meet CAA requirements.

EPA believes that the revised ORS 468A.020 (in conjunction with the corresponding revisions to the OAR (340) 200-0030, (340) 210-0205, and (340) 264-0040) meet CAA requirements and, therefore, are approving these revised OAR provisions into the federally approved Oregon SIP.

D. Permitting Rule Corrections, Clarifications and Streamlining

EPA is also approving portions of the October 10, 2008, March 17, 2009, and June 23, 2010, SIP submittals from ODEQ that correct previous errors, provide clarification and streamline air quality permitting rules in the State of Oregon.

On November 5, 1999, ODEQ submitted a complete rule renumbering to EPA for approval. On January 22, 2003 (68 FR 2891), we approved most of these new divisions but at that time did not take action on division 208 (Visible Emissions and Nuisance Requirements). We are now approving rules 0010 (Definitions), 0100 (Visible Emissions, Applicability), 0110 (Visible Emissions, Visible Air Contaminant Limitations), 0200 (Fugitive Emissions Requirements, Applicability) and 0210 (Fugitive Emissions Requirements) of division 208 into the Oregon SIP which replace division 21, rules 015, 050, 055, and 060, which are simultaneously being removed from the SIP (codified in 40 CFR 52.1970(c)(153)(i)(G)).

We are also approving Oregon's current excess emission rules (division 214, rules 0300 through 0360 that were included in the October 10, 2008 SIP submittal) into the Oregon SIP. These division 214 rules replace the federally-approved division 28, rules 1400, 1410, 1420, 1430, 1440, and 1450, which are simultaneously removed from the SIP in this action (codified in 40 CFR 52.1970(c)(153)(i)(G)). EPA finds that the division 214 rules conform to Federal standards related to excess emissions. Oregon's excess emission provisions specify the factors that the State will take into account regarding the exercise of its enforcement discretion in response to excess emissions.

Additionally, as part of October 10, 2008 SIP submittal, ODEQ submitted a revision to repeal outdated rules governing wigwam waste burners with a statewide prohibition on their use (division 234, rules 0110, 0120, and 0130) and redundant kraft pulp mill rules (division 234, rules 0230 and 0260). These rules are removed from the SIP in this action (codified in 40 CFR 52.1970(c)(154)(i)(A)).

These rules are described with additional specificity in our proposal for this action (76 FR 59090).

II. Final Action

EPA is taking final action to approve into Oregon's federally-approved SIP the provisions discussed in the September 23, 2011, proposal. This action will result in the following changes to the Oregon SIP in 40 CFR part 52, subpart MM.

A. Rules Approved Into SIP

EPA is approving into the Oregon SIP at 40 CFR part 52, subpart MM, the following revisions to chapter 340 of the OAR listed in Table 1. It is important to note that in those instances where ODEQ submitted multiple revisions to a single rule of chapter 340 of the OAR, the most recent version of that rule (based on State effective date) is being incorporated into the SIP since it supersedes all previous revisions.

Table 1—ODEQ Regulations Being Approved
State citation | Title/subject | State effective date | Explanation
OAR 340-200—General Air Pollution Procedures and Definitions
0010 | General, Purpose and Application | 11/8/2007 |
0020 | General, General Air Quality Definitions | 5/1/2011 | Including Tables 1-5.
0025 | General, Abbreviations and Acronyms | 5/1/2011 |
0030 | General, Exceptions | 9/17/2008 |
OAR 340-202—Ambient Air Quality Standards and PSD Increments
0010 | Definitions | 5/1/2011 |
0060 | Ambient Air Quality Standards, Suspended Particulate Matter | 5/1/2011 |
0090 | Ambient Air Quality Standards, Ozone | 5/21/2010 |
0130 | Ambient Air Quality Standards, Ambient Air Quality Standard for Lead | 5/21/2010 |
0210 | Prevention of Significant Deterioration Increments, Ambient Air Increments | 5/1/2011 | Including Table 1.
OAR 340-204—Designation of Air Quality Areas
0010 | Definitions | 5/21/2010 |
0030 | Designation of Nonattainment Areas | 5/21/2010 |
OAR 340-206—Air Pollution Emergencies
0010 | Introduction | 5/21/2010 |
0030 | Episode Stage Criteria for Air Pollution Emergencies | 5/21/2010 | Including Table 2.
OAR 340-208—Visible Emissions and Nuisance Requirements
0010 | Definitions | 11/8/2007 |
0100 | Visible Emissions, Applicability | 2/5/2001 |
0110 | Visible Emissions, Visible Air Contaminant Limitations | 11/8/2007 |
0200 | Fugitive Emission Requirements, Applicability | 2/5/2001 |
0210 | Fugitive Emission Requirements, Requirements | 2/5/2001 |
OAR 340-209—Public Participation
0040 | Public Notice Information | 11/8/2007 |
0070 | Hearings and Meeting Procedures | 11/8/2007 |
0080 | Issuance or Denial of a Permit | 11/8/2007 |
OAR 340-210—Stationary Source Notification Requirements
0205 | Notice of Construction and Approval of Plans, Applicability | 9/17/2008 |
OAR 340-214—Stationary Source Reporting Requirements
0010 | Definitions | 11/8/2007 |
0300 (Formally OAR-340-28-1400) | Excess Emissions and Emergency Provision, Purpose and Applicability | 11/8/2007 |
0310 (Formally OAR-340-28-1410) | Excess Emissions and Emergency Provision, Planned Startup and Shutdown | 11/8/2007 |
0320 (Formally OAR-340-28-1420) | Excess Emissions and Emergency Provision, Scheduled Maintenance | 11/8/2007 |
0330 (Formally OAR-340-28-1430) | Excess Emissions and Emergency Provision, All Other Excess Emissions | 11/8/2007 |
0340 (Formally OAR-340-28-1440) | Excess Emissions and Emergency Provision, Reporting Requirements | 11/8/2007 |
0350 (Formally OAR-340-28-1450) | Excess Emissions and Emergency Provision, Enforcement Action Criteria | 11/8/2007 |
0360 | Emergency as an Affirmative Defense | 11/8/2007 |
OAR 340-216—Air Contaminant Discharge Permits
0020 | Applicability | 5/1/2011 | Including Tables 1 and 2.
0040 | Application Requirements | 5/1/2011 |
0060 | General ACDPs | 5/1/2011 |
0064 | Simple ACDP | 5/1/2011 |
0082 | Termination or Revocation of an ACDP | 11/8/2007 |
OAR 340-222—Stationary Source Plant Site Emission Limits
0020 | Applicability | 8/29/2008 |
OAR 340-224 Major New Source Review
0010 | Applicability and General Prohibitions | 5/1/2011 |
0050 | Requirements for Sources in Nonattainment Areas | 5/1/2011 |
0060 | Requirements for Sources in Maintenance Areas | 5/1/2011 |
0070 | Prevention of Significant Deterioration Requirements for Sources in Attainment or Unclassified Areas | 5/1/2011 |
OAR 340-225—Air Quality Analysis Requirements
0020 | Definitions | 5/1/2011 | Including Table 1.
0030 | Procedural Requirements | 5/1/2011 |
0045 | Requirements for Analysis in Maintenance Areas | 5/1/2011 |
0050 | Requirements for Analysis in PSD Class II and Class III Areas | 5/1/2011 |
0060 | Requirements for Demonstrating Compliance with Standards and Increments in PSD Class I Areas | 5/1/2011 |
0090 | Requirements for Demonstrating a Net Air Quality Benefit | 5/1/2011 | Except 0090(2)(a)(C) addressing interpollutant offset ratios.
OAR 340-228—Requirements for Fuel Burning Equipment and Fuel Sulfur Content
0020 | Definitions | 11/8/2007 |
0200 | General Emission Standards for Fuel Burning Equipment, Sulfur Dioxide Standards | 11/8/2007 |
0210 | General Emission Standards for Fuel Burning Equipment, Grain Loading Standards | 11/8/2007 |
OAR 340-232—Emission Standards for VOC Sources
0010 | Introduction | 11/8/2007 |
OAR 340-234—Emission Standards for Wood Products Industries
0010 | Definitions | 11/8/2007 | Except 0010(24), 0010(26)(a) and 0010(44) addressing total reduced sulfur (TRS) emission-related definitions.
0100 | Wigwam Waste Burners, Wigwam Waste Burners | 11/8/2007 |
0110 | Wigwam Waste Burners, Authorization to Operate a Wigwam Burner | 11/8/2007 | Rule repealed, remove from SIP.
0120 | Wigwam Waste Burners, Emission and Operation Standards for Wigwam Waste Burners | 11/8/2007 | Rule repealed, remove from SIP.
0130 | Wigwam Waste Burners, Monitoring and Reporting | 11/8/2007 | Rule repealed, remove from SIP.
0140 | Wigwam Waste Burners, Existing Administrative Agency Orders | 11/8/2007 |
0210 | Kraft Pulp Mills, Emission Limitations | 11/8/2007 | Except 0210(1) addressing TRS emission limitations.
0230 | Kraft Pulp Mills, Plans and Specifications | 11/8/2007 | Rule repealed, remove from SIP.
0240 | Kraft Pulp Mills, Monitoring | 11/8/2007 | Except 0240(1) addressing TRS monitoring provisions.
0250 | Kraft Pulp Mills, Reporting | 11/8/2007 | Except 0250(1) and 0250(2) addressing TRS reporting provisions.
0260 | Kraft Pulp Mills, Upset Conditions | 11/8/2007 | Rule repealed, remove from SIP.
0500 | Board Product Industries, Applicability and General Provisions | 11/8/2007 |
0510 | Board Product Industries, Veneer and Plywood Manufacturing Operations | 11/8/2007 |
0520 | Board Product Industries, Particleboard Manufacturing Operations | 11/8/2007 |
0530 | Board Product Industries, Hardboard Manufacturing Operations | 11/8/2007 |
OAR 340-236—Emission Standards for Specific Sources
0010 | Definitions | 11/8/2007 |
0410 | Hot Asphalt Plants, Control Facilities Required | 11/8/2007 |
OAR 340-264—Rules for Open Burning
0040 | Exemptions, Statewide | 9/17/2008 |

B. Rules on Which No Action Is Taken

The following provisions were included in the SIP submittals discussed above. However, EPA is taking no action to incorporate them into Oregon's federally approved SIP at this time.

OAR 340-200—General Air Pollution Procedures and Definitions, rule 0040, General, “State of Oregon Clean Air Act Implementation Plan”.

OAR 340-215—Greenhouse Gas Reporting Requirements.

OAR 340-218—Oregon Title V Operating Permits, rules 0010, 0020, 0040, 0050, 0120, 0150, 0180, 0190 and 0250.

OAR 340-225—Air Quality Analysis Requirements, rule 0090, Requirements for Demonstrating a Net Air Quality Benefit, paragraph (a)(C) addressing interpollutant offset ratios for PM2.5.

OAR 340-228—Requirements for Fuel Burning Equipment and Fuel Sulfur Content, rules 0672, 0673, 0676, and 0678 (Mercury Rules for Coal-Fired Power Plants).

OAR 340-228—Requirements for Fuel Burning Equipment and Fuel Sulfur Content, rule 0300, Federal Acid Rain Program, Federal Regulations Adopted by Reference.

OAR 340-230—Incinerator Regulations.

OAR 340-234—Standards for Wood Products Industries—Specific references to TRS emission limits or definitions.

OAR 340-246—Oregon State Air Toxics Program, rule 0230, Safety Net Source Air Toxics Emissions Reduction Measures in Permit.

III. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Lead, Nitrogen dioxide, Ozone, Particulate matter, Reporting and recordkeeping requirements, Sulfur oxides, Volatile organic compounds.

Dated: November 9, 2011.
Dennis J. McLerran,
Regional Administrator, Region 10.

Part 52, chapter I, title 40 of the Code of Federal Regulations is amended as follows:

PART 52—[AMENDED]

1. The authority citation for Part 52 continues to read as follows:

Authority: 42 U.S.C. 7401 et seq.

Subpart MM—Oregon

2. Section 52.1970 is amended by adding paragraphs (c)(153) and (154) to read as follows:

§ 52.1970 Identification of plan.

* * * * *

(c) * * *

(153) On October 8, 2008, October 10, 2008, March 17, 2009, June 23, 2010, December 22, 2010, and May 5, 2011, the Oregon Department of Environmental Quality submitted numerous amendments to the Oregon Administrative Rules as revisions to the Oregon State implementation plan. The revisions include updating Oregon's new source review rules to be consistent with current Federal regulations and streamlining Oregon's air quality rules by clarifying requirements, removing duplicative rules, and correcting errors.

(i) Incorporation by reference.

(A) The following revised sections of the Oregon Administrative Rules, Chapter 340, effective February 5, 2001:

(1) Division 208, Visible Emissions and Nuisance Requirements: Rule 0100, Visible Emissions, Applicability; Rule 0200, Fugitive Emission Requirements, Applicability; Rule 0210, Fugitive Emission Requirements, Requirements.

(B) The following revised sections of the Oregon Administrative Rules, Chapter 340, effective November 8, 2007:

(1) Division 200, General Air Pollution Procedures and Definitions: Rule 0010, General, Purpose and Application;

(2) Division 208, Visible Emissions and Nuisance Requirements: Rule 0010, Definitions; Rule 0110, Visible Emissions, Visible Air Contaminant Limitations;

(3) Division 209, Public Participation: Rule 0040, Public Notice Information; Rule 0070, Hearing and Meeting Procedures; Rule 0080, Issuance or Denial of a Permit;

(4) Division 214, Stationary Source Reporting Requirements: Rule 0010, Definitions; Rule 0300, Excess Emissions and Emergency Provision, Purpose and Applicability; Rule 0310, Excess Emissions and Emergency Provision, Planned Start-up and Shutdown; Rule 0320, Excess Emissions and Emergency Provision, Scheduled Maintenance; Rule 0330, Excess Emissions and Emergency Provision, All Other Excess Emissions; Rule 0340, Excess Emissions and Emergency Provision, Reporting Requirements; Rule 0350, Excess Emissions and Emergency Provision, Enforcement Action Criteria; Rule 0360, Excess Emissions and Emergency Provision, Emergency as an Affirmative Defense;

(5) Division 216, Air Contaminant Discharge Permits: Rule 0082, Termination or Revocation of an ACDP;

(6) Division 228, Requirements for Fuel Burning Equipment and Fuel Sulfur Content: Rule 0020, Definitions; Rule 0200, General Emission Standards for Fuel Burning Equipment, Sulfur Dioxide Standards; Rule 0210, General Emission Standards for Fuel Burning Equipment, Grain Loading Standards;

(7) Division 232, Emission Standards for VOC Point Sources: Rule 0010, Introduction;

(8) Division 234, Emission Standards for Wood Products Industries: Rule 0010, Definitions (except for paragraphs (24), (26)(a) and (44)); Rule 0100, Wigwam Waste Burners, Wigwam Waste Burners; Rule 0140, Wigwam Waste Burners, Existing Administrative Agency Orders; Rule 0210, Kraft Pulp Mills, Emission Limitations (except for paragraph (1)); Rule 0240, Kraft Pulp Mills, Monitoring (except for paragraph (1)); Rule 0250, Kraft Pulp Mills, Reporting (except for paragraphs (1) and (2)); Rule 0500, Board Products Industries (Veneer, Plywood, Particleboard, Hardboard), Applicability and General Provisions; Rule 0510, Board Products Industries (Veneer, Plywood, Particleboard, Hardboard), Veneer and Plywood Manufacturing Operations; Rule 0520, Board Products Industries (Veneer, Plywood, Particleboard, Hardboard), Particleboard Manufacturing Operations; Rule 0530, Board Products Industries (Veneer, Plywood, Particleboard, Hardboard), Hardboard Manufacturing Operations;

(9) Division 236, Emission Standards for Specific Industries: Rule 0010, Definitions; Rule 0410, Hot Mix Asphalt Plants, Control Facilities Required.

(C) The following revised sections of the Oregon Administrative Rules, Chapter 340, effective August 29, 2008:

(1) Division 222, Stationary Source Plant Site Emission Limits: Rule 0020, Applicability.

(D) The following revised sections of the Oregon Administrative Rules, Chapter 340, effective September 17, 2008:

(1) Division 200, General Air Pollution Procedures and Definitions: Rule 0030, General, Exceptions;

(2) Division 210, Stationary Source Notification Requirements: Rule 0205, Notice of Construction and Approval of Plans, Applicability;

(3) Division 264, Rules for Open Burning: Rule 0040, Exemptions, Statewide.

(E) The following revised sections of the Oregon Administrative Rules, Chapter 340, effective May 21, 2010:

(1) Division 202, Ambient Air Quality Standards and PSD Increments: Rule 0090, Ambient Air Quality Standards, Ozone; Rule 0130, Ambient Air Quality Standards, Ambient Air Quality Standard for Lead;

(2) Division 204, Designation of Air Quality Areas: Rule 0010, Definitions; Rule 0030, Designation of Nonattainment Areas;

(3) Division 206, Air Pollution Emergencies: Rule 0010, Introduction; Rule 0030, Episode Stage Criteria for Air Pollution Emergencies (including Table 2, Air Pollution Episode Warning Conditions Emission Reduction Plan).

(F) The following revised sections of the Oregon Administrative Rules, Chapter 340, effective May 1, 2011:

(1) Division 200, General Air Pollution Procedures and Definitions: Rule 0020, General, General Air Quality Definitions (including Table 1, Significant Air Quality Impact; Table 2, Significant Emission Rates; Table 3, Significant Emission Rates for the Medford-Ashland Air Quality Maintenance Area; Table 4, De Minimus Emission Levels; Table 5, General PSELs); Rule 0025, General, Abbreviations and Acronyms;

(2) Division 202, Ambient Air Quality Standards and PSD Increments: Rule 0010, Definitions; Rule 0060, Ambient Air Quality Standards, Suspended Particulate Matter; Rule 0210, Prevention of Significant Deterioration Increments, Ambient Air Increments (including Table 1, Maximum Allowable Increase);

(3) Division 216, Air Contaminant Discharge Permits: Rule 0020, Applicability (including Table 1, Air Contaminant Discharge Permits; Table 2, Part 1 Initial Permitting Application Fees, Part 2 Annual Fees, Part 3 Specific Activity Fees, Part 4 Late Fees); Rule 0040, Application Requirements; Rule 0060, General Air Contaminant Discharge Permits; Rule 0064, Simple ACDP;

(4) Division 224, Major New Source Review: Rule 0010, Applicability and General Prohibitions; Rule 0050, Requirements for Sources in Nonattainment Areas; Rule 0060, Requirements for Sources in Maintenance Areas, Rule 0070, Prevention of Significant Deterioration Requirements for Sources in Attainment or Unclassified Areas;

(5) Division 225, Air Quality Analysis Requirements: Rule 0020, Definitions (including Table 1, Constant K for Range of Influence Calculation); Rule 0030, Procedural Requirements; Rule 0045, Requirements for Analysis in Maintenance Areas; Rule 0050, Requirements for Analysis in PSD Class II and Class III Areas; Rule 0060, Requirements for Demonstrating Compliance With Standards and Increments in PSD Class I Areas; and Rule 0090, Requirements for Demonstrating a Net Air Quality Benefit (except paragraph (2)(a)(C)).

(G) Remove the following rules from section 340 to the OAR from the current incorporation by reference: Divisions 21, Rules 015, 050, 055 and 060; and Division 28. See paragraph(s) (c)(116)(i)(A), (c)(116)(i)(C), (c)(118)(i)(B) and (c)(139)(i)(B) of this section.

(154) On October 10, 2008, the Oregon Department of Environmental Quality submitted a SIP revision to repeal outdated rules governing wigwam waste burners with a statewide prohibition on their use, and to repeal redundant kraft pulp mill rules.

(i) Incorporation by reference.

(A) Remove the following rules of section 340 of the OAR from the current incorporation by reference: Division 234, Rules 0110, 0120, 0130, 0230 and 0260. See paragraph (c)(139)(i)(A) of this section.

3. Section 52.1987 is revised to read as follows:

§ 52.1987 Significant deterioration of air quality.

(a) The Oregon Department of Environmental Quality rules for the prevention of significant deterioration of air quality (provisions of OAR Chapter 340, Divisions 200, 202, 209, 212, 216, 222, 224, 225 (except 225-0090(2)(a)(C) on interpollutant offset ratios), and 268, as in effect on May 1, 2011, are approved as meeting the requirements of title I, part C, subpart 1 of the Clean Air Act, as in effect on July 1, 2011, for preventing significant deterioration of air quality.

(b) The Lane Regional Air Pollution Authority rules for permitting new and modified major stationary sources (Title 38 New Source Review) are approved, in conjunction with the Oregon Department of Environmental Quality rules, in order for the Lane Regional Air Pollution Authority to issue prevention of significant deterioration permits within Lane County.

(c) The requirements of sections 160 through 165 of the Clean Air Act are not met for Indian reservations since the plan does not include approvable procedures for preventing the significant deterioration of air quality on Indian reservations and, therefore, the provisions in § 52.21 except paragraph (a)(1) are hereby incorporated and made part of the applicable plan for Indian reservations in the State of Oregon.

4. In § 52.1989, paragraph (a) is revised to read as follows:

§ 52.1989 Interstate Transport for the 1997 8-hour ozone NAAQS and 1997 24-hour PM2.5 NAAQS.

(a) On June 23, 2010 and December 22, 2010, the Oregon Department of Environmental Quality submitted a SIP revision, adopted by the Oregon Environmental Quality Commission on April 30, 2010, to meet the requirements of Clean Air Act section 110(a)(2)(D)(i). EPA approves the portion of this submittal relating to significant contribution to nonattainment of the NAAQS in any other state and interference with maintenance of the NAAQS by any other state. EPA also approves the portion of the submittal addressing the requirement in Clean Air Act section 110(a)(2)(D)(i)(II) that a state not interfere with any other state's required measures to prevent significant deterioration (PSD) of its air quality (the third PSD element).

* * * * *

5. Section 52.1990 is added to read as follows:

§ 52.1990 Interstate Transport for the 2006 24-hour PM2.5 NAAQS.

(a) EPA approves the portion of Oregon's SIP revision submitted June 23, 2010, and December 22, 2010 (referenced in § 52.1989(a)) addressing the requirement in Clean Air Act section 110(a)(2)(D)(i)(II) that a state not interfere with any other state's required measures to prevent significant deterioration (PSD) of its air quality (the third PSD element).

(b) [Reserved]

[FR Doc. 2011-33012 Filed 12-23-11; 8:45 am]

BILLING CODE 6560-50-P